DEPARTMENT OF HOMELAND SECURITY

Coast Guard

33 CFR Part 67

[USCG-2001-10714]

RIN 1625-AA34

Update of Rules on Aids to Navigation Affecting Buoys, Sound Signals, International Rules at Sea, Communications Procedures, and Large Navigational Buoys

AGENCY: Coast Guard, DHS.

ACTION: Final rule; correction.

SUMMARY: The Coast Guard published in the Federal Register of May 5, 2004, a final rule concerning an update of rules on aids to navigation. The final rule, as published, contained an error—a request to remove two sentences from a section in which the sentences are not present. This document corrects that error.

DATES: Effective June 1, 2004.

FOR FURTHER INFORMATION CONTACT: For questions on this correction notice, call or e-mail Dan Andrusiak, Office of Aids to Navigation (G-OPN), U.S. Coast Guard, at telephone 202-267-0327, or dandrusiak@comdt.uscg.mil.

SUPPLEMENTARY INFORMATION:

Need for Correction

The final rule, as published, contained an error. The rule removes two sentences from six sections in 33 CFR part 67 subpart 67.50. Section 67.50-35 was added to this list of sections by mistake. The two identified sentences do not appear in § 67.50-35.

Correction of Publication

PART 67—[CORRECTED]

In FR Doc. 04-9908 published on May 5, 2004, (69 FR 24979), make the following corrections:

§ 67.50-35 [Corrected]

1. On page 24984, in the second column, on line 7, correct the list of section numbers by removing “67.50-35,”.

2. In amendatory instruction 30, correct the instruction by removing “67.50-35(b),”.

Dated: May 24, 2004.
David S. Belz,
Rear Admiral, U.S. Coast Guard, Assistant Commandant for Operations.

[FR Doc. 04-12360 Filed 5-28-04; 8:45 am]

BILLING CODE 4910-15-P